DEPARTMENT OF COMMERCE

National Oceanic and Atmospheric Administration

[RTID 0648-XE723]

Pacific Fishery Management Council; Public Meeting

AGENCY: National Marine Fisheries Service (NMFS), National Oceanic and Atmospheric Administration (NOAA), Commerce.

ACTION: Notice of public meeting.

SUMMARY: The Pacific Fishery Management Council (Pacific Council) will convene webinar meetings of the Groundfish Management Team (GMT) and its Groundfish Advisory Subpanel (GAP). The GMT and the GAP will discuss items on the Pacific Council's April 2025 meeting agenda and other items. These meetings are open to the public.

DATES: The GAP online meeting will be held on Friday, April 4, 2025, from 9 a.m. to 12 p.m., Pacific Time. The GMT online meeting will be held on Friday, April 4, 2025, from 1 p.m. to 4 p.m., Pacific Time. The scheduled ending times for these meetings is an estimate. The meetings will adjourn when business for the day is completed.

ADDRESSES: These meetings will be held online. Specific meeting information, including directions on how to attend the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Jessi Waller, Staff Officer, Pacific Council; jessi.waller@pcouncil.org, telephone: (503) 820-2426.

SUPPLEMENTARY INFORMATION: The primary purpose of the GMT and GAP webinars are to prepare for the Pacific Council's April 2025 meeting agenda items. These meetings are expected to focus on cross fishery management plan and administrative agenda items.

A detailed agenda for each webinar will be available on the Pacific Council's website prior to the meeting. The GMT and GAP may also address other assignments relating to groundfish management. No management actions will be decided by the GMT and GAP.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Dated: March 11, 2025.
Rey Israel Marquez,
Acting Deputy Director, Office of Sustainable Fisheries, National Marine Fisheries Service.

[FR Doc. 2025-04146 Filed 3-14-25; 8:45 am]

BILLING CODE 3510-22-P